NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Heather C. Gottry, Acting Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: May 1, 2008.

Time: 9 a.m. to 5 p.m.

Room: 315.

Program: This meeting will review applications for Summer Seminars for Teachers, submitted to the Division of Education Programs, at the March 3, 2008 deadline.

2. Date: May 5, 2008.

Time: 9 a.m. to 5 p.m.

Room: 315.

Program: This meeting will review applications for Landmarks of American History and Culture, submitted to the Division of Education Programs, at the March 17, 2008 deadline.

3. Date: May 6, 2008.

Time: 9 a.m. to 5 p.m.

Room: 315.

Program: This meeting will review applications for Landmarks of American History and Culture, submitted to the Division of Education Programs, at the March 17, 2008 deadline.

4. Date: May 7, 2008.

Time: 9 a.m. to 5 p.m.

Room: 315.

Program: This meeting will review applications for Landmarks of American History and Culture, submitted to the Division of Education Programs, at the March 17, 2008 deadline.

5. Date: May 30, 2008.

Time: 9 a.m. to 5 p.m.

Room: 415.

Program: This meeting will review applications for Advancing Knowledge in Preservation and Access Advancing Knowledge, submitted to the Division of Preservation and Access, at the March 18, 2008 deadline.

Heather C. Gottry,
Acting Advisory Committee Management Officer.

[FR Doc. E8-8504 Filed 4-17-08; 8:45 am]

BILLING CODE 7536-01-P